DEPARTMENT OF ENERGY

Federal Energy Regulatory Commission

[Project No. 14207-000]

Percheron Power, LLC; Notice of Preliminary Permit Application Accepted for Filing and Soliciting Comments, Motions To Intervene, and Competing Applications

On May 31, 2011, Percheron Power, LLC filed an application for a preliminary permit, pursuant to section 4(f) of the Federal Power Act (FPA), proposing to study the feasibility of the Scooteney Reservoir Outlet Water Power Project (Scooteney Outlet Project or project) to be located on the Potholes East Canal, which is an outlet structure from the Scooteney Reservoir, near Othello, Franklin County, Washington. The sole purpose of a preliminary permit, if issued, is to grant the permit holder priority to file a license application during the permit term. A preliminary permit does not authorize the permit holder to perform any land-disturbing activities or otherwise enter upon lands or waters owned by others without the owners' express permission.

The proposed project would consist of the following: (1) An approximately 300-foot-long intake structure installed on the Potholes East Canal to divert flow from the canal to the turbines, which would be 100 feet wide at the intersection with the canal and would narrow to 50 feet wide before entering the powerhouse, and would include a 100-foot-wide, 15-foot-high intake grate and a 50-foot-wide, 15-foot-high trash rack; (2) an approximately 65-foot-long, 20-foot-wide powerhouse containing four low-head turbine/generator units rated for approximately 260 kilowatts each (total capacity of 1,050 kilowatts) at an average head of 11 feet; (3) a 600-foot-long, 11-foot-high bypass weir, constructed in parallel to the west bank of the existing Potholes East Canal, to function as a project spillway; (4) a discharge canal returning flows from the powerhouse to the Potholes East Canal; (5) a 20-foot-long, 40-foot-wide substation at the powerhouse which will connect with the existing distribution line at the project site; and (6) appurtenant facilities. The project will be located on federal lands, and would operate as run-of-release using irrigation flows provided by the Bureau of Reclamation and the South Columbia Basin Irrigation District. The estimated annual generation of the Scooteney Outlet Project would be 3.76 gigawatt-hours.

Applicant Contact: Mr. Jerry Straalsund, President, Percheron Power, LLC, 6855 W. Clearwater Ave., A101-260, Kennewick, WA 99336; e-mail: jls@percheronpower.com.

FERC Contact: Jennifer Harper; phone: (202) 502-6136.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-14207-000) in the docket number field to access the document. For assistance, contact FERC Online Support.

Dated: August 10, 2011.
Kimberly D. Bose,
Secretary.

[FR Doc. 2011-20894 Filed 8-16-11; 8:45 am]

BILLING CODE 6717-01-P